NUCLEAR REGULATORY COMMISSION

10 CFR Parts 50 and 55

[NRC-2012-0031]

RIN 3150-AJ11

Onsite Emergency Response Capabilities

AGENCY: Nuclear Regulatory Commission.

ACTION: Regulatory basis.

SUMMARY: The U.S. Nuclear Regulatory Commission (NRC) is making available a regulatory basis document to support the potential amendment of its regulations concerning nuclear power plant licensees' onsite emergency response capabilities. The NRC is not seeking public comments on this document. The issuance of this regulatory basis document is one of the actions stemming from the NRC's lessons-learned efforts associated with the March 2011 Fukushima Dai-ichi Nuclear Power Plant accident in Japan.

DATES: At this time, the NRC is not soliciting formal public comments on this document. There will be an opportunity for formal public comment on the proposed rule when it is published in the Federal Register.

ADDRESSES: Please refer to Docket ID NRC-2012-0031 when contacting the NRC about the availability of information for this document. You may access information related to this document by any of the following methods:

• Federal Rulemaking Web site: Go to www.regulations.gov and search for Docket ID NRC-2012-0031. Address questions about NRC dockets to Carol Gallagher; telephone: 301-287-3422; email: Carol.Gallagher@nrc.gov. For technical questions, please contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS Accession Number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Stewart Schneider, Office of Nuclear Reactor Regulation, U.S. Nuclear Regulatory Commission, Washington, DC 20555-0001; telephone: 301-415-4123; email: Stewart.Schneider@nrc.gov.

SUPPLEMENTARY INFORMATION:

I. Background

II. Publicly Available Documents

III. Non-Concurrence

IV. Plain Writing

I. Background

As the NRC continues its ongoing proposed rulemaking effort to amend portions of Parts 50 and 55 of Title 10 of the Code of Federal Regulations (10 CFR) to strengthen and integrate onsite emergency response capabilities, the NRC is making documents publicly available on the Federal rulemaking Web site, www.regulations.gov, under Docket ID NRC-2012-0031. By making these documents publicly available, the NRC seeks to inform stakeholders of the current status of the NRC's rulemaking development activities and to provide preparatory material for future public meetings.

II. Publicly Available Documents

The NRC has posted on www.regulations.gov for public availability the regulatory basis to strengthen and integrate onsite emergency response capabilities. This regulatory basis documents the reasons why the NRC determined rulemaking was the appropriate course of action to enhance regulatory requirements.

In addition, the NRC has posted preliminary proposed rule language related to this rulemaking as Appendix C of the regulatory basis. This preliminary proposed rule language contains one portion of the NRC's proposed changes. This language does not represent a final NRC staff position nor has it been reviewed by the Commission. Therefore, the preliminary proposed rule language may undergo significant revision during the rulemaking process.

The NRC is not requesting formal public comments on the regulatory basis or the preliminary proposed rule language. The NRC may post additional materials, including other preliminary proposed rule language, to the Federal rulemaking Web site at www.regulations.gov, under Docket ID NRC-2012-0031. The Federal rulemaking Web site allows you to receive alerts when changes or additions occur in a docket folder. To subscribe: (1) Navigate to the docket folder (NRC-2012-0031); (2) click the “Email Alert” link; and (3) enter your email address and select how frequently you would like to receive emails (daily, weekly, or monthly).

III. Non-Concurrence

Several NRC staff members did not agree with some content of the regulatory basis and submitted non-concurrences on this document. In accordance with the NRC's non-concurrence process, NRC management and staff worked to address the staff members' concerns, and documentation of the non-concurrences can be found at Accession Nos. ML13269A322 and ML13269A327. The non-concurrence issues were assessed, and the regulatory basis was revised to address the staff members' concerns. As a result, four of the staff members concurred, and one staff member reaffirmed his non-concurrence.

IV. Plain Writing

The Plain Writing Act of 2010, (Pub. L. 111-274) requires Federal agencies to write documents in a clear, concise, well-organized manner that also follows other best practices appropriate to the subject or field and the intended audience. Although regulations are exempt under the Act, the NRC is applying the same principles to its rulemaking documents. Therefore, the NRC has written this document, including the preliminary proposed rule language, to be consistent with the Plain Writing Act.

Dated at Rockville, Maryland, this 1st day of October, 2013.
For the Nuclear Regulatory Commission.
Lawrence E. Kokajko,
Director, Division of Policy and Rulemaking, Office of Nuclear Reactor Regulation.

[FR Doc. 2013-24879 Filed 10-24-13; 8:45 am]

BILLING CODE 7590-01-P